DEPARTMENT OF JUSTICE

Notice of Lodging of Proposed Consent Decree Under the Resource Conservation and Recovery Act

On February 26, 2015, the Department of Justice lodged a proposed consent decree with the United States District Court for the District of Nevada in the lawsuit entitled United States and State of Nevada v. Barrick Goldstrike Mines, Inc., Civil Action No. 3:15-cv-0017-RCJ-VPC.

In this action, the United States and the State of Nevada filed a complaint under the Resource Conservation and Recovery Act, 42 U.S.C. 6901 et seq., and the State of Nevada's Disposal of Hazardous Waste statutes, set forth at Title 40 (“Public Health and Safety”), Chapter 459 (“Hazardous Materials”) of the Nevada Revised Statutes (NRS 459.400 to 459.600) alleging violations at a gold mining and processing facility located near Elko, Nevada. The consent decree requires Barrick to pay a civil penalty of $196,000.00.

The publication of this notice opens a period for public comment on the consent decree. Comments should be addressed to the Assistant Attorney General, Environment and Natural Resources Division, and should refer to United States v. Barrick Goldstrike Mines, Inc., D.J. Ref. No. 90-7-1-10581. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $6.50 (25 cents per page reproduction cost) payable to the United States Treasury.

Henry Friedman,
Assistant Section Chief, Environmental Enforcement Section, Environment and Natural Resources Division.

[FR Doc. 2015-04418 Filed 3-3-15; 8:45 am]

BILLING CODE 4410-15-P